DEPARTMENT OF STATE

[Public Notice: 9194]

Advisory Committee for the Study of Eastern Europe and the Independent States of the Former Soviet Union (Title VIII)

The Advisory Committee for the Study of Eastern Europe and the Independent States of the Former Soviet Union (Title VIII) will convene on Tuesday, August 4, 2015 at 12:30 a.m. and last until approximately 2:30 p.m. The meeting location is Room 1105 of the U.S. Department of State, Harry S Truman Building, 2201 C Street NW., Washington, DC.

The Advisory Committee will recommend grant recipients for the FY 2014 competition of the Program for the Study of Eastern Europe and the Independent States of the Former Soviet Union in accordance with the Research and Training for Eastern Europe and the Independent States of the Former Soviet Union Act of 1983, Public Law 98-164, as amended. The agenda will include opening statements by the Chair and members of the committee, and, within the committee, discussion of grant agreements with certain “national organizations with an interest and expertise in conducting research and training concerning the countries of Eastern Europe and the Independent States of the Former Soviet Union,” based on the guidelines contained in the call for applications published in Grants.gov and GrantSolutions.gov on March 30, 2015. Following committee deliberation, interested members of the public may make oral statements concerning the Title VIII program in general.

This meeting will be open to the public; however attendance will be limited to the seating available. Entry into the Harry S Truman building is controlled and must be arranged in advance of the meeting. Those planning to attend should notify the Title VIII Program Office at the U.S. Department of State on (202) 647-0243 by Tuesday, July 28, 2015. All attendees must use the 2201 C Street entrance and must arrive no later than 11:30 a.m. to pass through security before entering the building. Visitors who arrive without prior notification and without photo identification will not be admitted.

The identifying data from the public is requested pursuant to Pub. L. 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://foia.state.gov/_docs/SORN/State-36.pdf for additional information.

Dated: July 6, 2015.
Christina Condrey,
Executive Director, Advisory Committee for Study of Eastern Europe and Eurasia (the Independent States of the Former Soviet Union).

[FR Doc. 2015-17447 Filed 7-15-15; 8:45 am]

BILLING CODE 4710-32-P